DEPARTMENT OF HEALTH AND HUMAN SERVICES

Centers for Disease Control and Prevention

[60Day-24-24FZ; Docket No. CDC-2024-0048]

Proposed Data Collection Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of government information, invites the general public and other Federal agencies the opportunity to comment on a proposed information collection, as required by the Paperwork Reduction Act of 1995. This notice invites comment on a proposed information collection project titled Annual Progress Reports for Injury Control Research Centers (ICRC). ICRCs focus on research, training, and outreach for issues of local and national importance, including the prevention of adverse childhood experiences, child abuse and neglect, drowning, drug overdose, intimate partner violence, older adult falls, sexual violence, suicide, and traumatic brain injuries, as well as the promotion of transportation safety.

DATES: CDC must receive written comments on or before August 5, 2024.

ADDRESSES: You may submit comments, identified by Docket No. CDC-2024-0048 by either of the following methods:

• Federal eRulemaking Portal: www.regulations.gov. Follow the instructions for submitting comments.

• Mail: Jeffrey M. Zirger, Information Collection Review Office, Centers for Disease Control and Prevention, 1600 Clifton Road NE, MS H21-8, Atlanta, Georgia 30329.

Instructions: All submissions received must include the agency name and Docket Number. CDC will post, without change, all relevant comments to www.regulations.gov.

Please note: Submit all comments through the Federal eRulemaking portal (www.regulations.gov) or by U.S. mail to the address listed above.

FOR FURTHER INFORMATION CONTACT: To request more information on the proposed project or to obtain a copy of the information collection plan and instruments, contact Jeffrey M. Zirger, Information Collection Review Office, Centers for Disease Control and Prevention, 1600 Clifton Road NE, MS H21-8, Atlanta, Georgia 30329; Telephone: 404-639-7570; Email: omb@cdc.gov.

SUPPLEMENTARY INFORMATION: Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected;

4. Minimize the burden of the collection of information on those who are to respond, including through the use of appropriate automated, electronic, mechanical, or other technological collection techniques or other forms of information technology, e.g., permitting electronic submissions of responses; and

5. Assess information collection costs.

Proposed Project

Annual Progress Reports for Injury Control Research Centers (ICRC)—New—National Center for Injury Prevention and Control (NCIPC), Centers for Disease Control and Prevention (CDC).

Background and Brief Description

In 1987, the Centers for Disease Control and Prevention (CDC) and the National Center for Injury Prevention and Control (NCIPC) began funding Injury Control Research Centers (ICRCs) at academic research institutions throughout the United States. ICRCs focus on three core functions—research, training, and outreach—for issues of local and national importance, including the prevention of adverse childhood experiences; child abuse and neglect; drowning; drug overdose; intimate partner violence; older adult falls; sexual violence; suicide; and traumatic brain injuries, and the promotion of transportation safety. ICRCs foster multidisciplinary strategies for addressing these complex problems and disseminating research findings. In addition to conducting cutting-edge, multidisciplinary research, ICRCs train and develop the current and next generation of researchers and public health professionals to help ensure that there is an adequate supply of qualified practitioners and researchers for advancing prevention research, addressing new problems, and reaching new populations across the nation. Finally, ICRCs work with States and communities to translate research findings into action. ICRCs provide partner organizations with technical assistance on programs, public health infrastructure, and the integration of resources at the local, State, and national levels. Areas of emphasis within each ICRC are determined by the expertise of the faculty and the public health needs and opportunities identified through the ICRC's outreach activities. This collaborative approach is a vital component in the success of efforts to make an impact on population-level reduction in injury-related harm.

ICRCs form a national network of expertise and innovation in injury prevention and control. ICRC grants are typically funded in five-year funding cycles. The Centers for Disease Control and Prevention (CDC) requests OMB approval to electronically collect annual progress report (APR) information and Success Stories from the 11 currently funded ICRCs. Grantees will report progress and activity information to CDC on an annual schedule using a web-based CAMP. The information that will be collected will provide crucial data for program performance monitoring and will improve CDC's ability to respond in a timely manner to requests for information about the program from the Department of Health and Human Services (HHS), the White House, Congress, and other sources. The information that will be collected will also strengthen CDC's ability to monitor grantee progress towards stated grant research, training, and outreach objectives, provide data-driven technical assistance, and disseminate Success Stories about what's working to reduce unintentional and intentional injuries. This data collection will improve and innovate through evaluation, research, and quality improvement; investigate, diagnose, and address health hazards and root causes; communicate effectively to inform and educate; strengthen, support, and mobilize communities and partnerships; and create, champion, and implement policies, plans. CDC ICRC grantees perform all of these activities, and the systematic collection of data, annually, is the best way for CDC to understand this work. This APR information collection will enable grantees to submit accurate, reliable, and timely activity and performance data to the CDC.

CDC requests OMB approval for an estimated 183 annual burden hours. There is no cost to participants other than their time.

Estimated Annualized Burden Hours
Type of respondents | Form name | Number of respondents | Number of responses per respondent | Average burden per response (in hours) | Total burden (in hours)
Injury Research Center (ICRC) Grantees | Injury Control Research Indicators Data Collection | 11 | 1 | 8 | 88
| ICRC Publication Table | 11 | 1 | 8 | 88
| Success Stories Template | 11 | 1 | 1 | 7
Total |  |  |  |  | 183

Jeffrey M. Zirger,
Lead, Information Collection Review Office, Office of Public Health Ethics and Regulations, Office of Science, Centers for Disease Control and Prevention.

[FR Doc. 2024-12233 Filed 6-3-24; 8:45 am]

BILLING CODE 4163-18-P